DEPARTMENT OF HOMELAND SECURITY

National Communications System

[Docket No. NCS-2009-0002]

President's National Security Telecommunications Advisory Committee

AGENCY: National Communications System, DHS.

ACTION: Notice of Partially Closed Advisory Committee Meeting.

SUMMARY: The President's National Security Telecommunications Advisory Committee (NSTAC) will meet on May 21, 2009, in a partially closed session.

DATES: Thursday, May 21, 2009, from 2:30 p.m. until 5:10 p.m.

ADDRESSES: The meeting will take place at the U.S. Chamber of Commerce, 1615 H St., NW., Washington, DC. If you desire meeting materials, contact Ms. Sue Daage at (703) 235-5526 or by e-mail at sue.daage@dhs.gov. Please submit your comments by May 28, 2009. Comments must be identified by NCS-2009-0002 and may be submitted by one of the following methods:

• Federal eRulemaking Portal: http://www.regulations.gov. Follow the instructions for submitting comments.

• E-mail: NSTAC1@dhs.gov. Include docket number in the subject line of the message.

• Mail: Office of the Manager, National Communications System, Department of Homeland Security, 245 Murray Lane, Washington, DC 20598-0615.

• Fax: 1-866-466-5370.

Instructions: All submissions received must include the words “Department of Homeland Security” and NCS-2009-0002, the docket number for this action. Comments received will be posted without alteration at www.regulations.gov, including any personal information provided.

Docket: For access to the docket to read background documents or comments received by the NSTAC, go to http://www.regulations.gov.

FOR FURTHER INFORMATION CONTACT: Ms. Sue Daage, Customer Service Division, at (703) 235-5526, e-mail: Sue.Daage@dhs.gov, or write the Deputy Manager, National Communications System, Department of Homeland Security, 245 Murray Lane, Washington, DC 20598-0615.

SUPPLEMENTARY INFORMATION: The NSTAC advises the President on issues and problems related to implementing national security and emergency preparedness telecommunications policy. Notice of this meeting is given under the Federal Advisory Committee Act, Public Law 92-463, as amended, appearing in 5 U.S.C. App. 2.

At the upcoming meeting, between 2:30 p.m. and 3:40 p.m., the NSTAC will receive comments from government stakeholders, including comments from the Federal Communications Commission Acting Chief of the Public Safety and Homeland Security Bureau, and discuss ongoing NSTAC work on research and development, and outreach efforts. This portion of the meeting will be open to the public.

Between 3:45 p.m. and 5:10 p.m., the NSTAC will receive briefings from the Director for the National Security Space Office and the Acting Senior Director for Cyber Space. The NSTAC will discuss cybersecurity and satellite security issues. This portion of the meeting will be closed to the public.

Basis for Closure: Briefings from the Director for the National Security Space Office and the Acting Senior Director for Cyber Space, as well as discussions on cybersecurity and satellite security, will likely involve sensitive infrastructure information. The NSTAC's discussions will likely include information which is predominantly internal and that, if disclosed, would significantly risk circumvention of Department of Homeland Security (DHS) regulations or statutes—specifically, identification of vulnerabilities in the Federal Government's cyber network, along with strategies for mitigating those vulnerabilities and other sensitive law enforcement or homeland security information. NSTAC members will likely inform the discussion by contributing confidential and voluntarily provided commercial information relating to private-sector network vulnerabilities that they would not customarily release to the public. Disclosure of this information can be reasonably expected to frustrate DHS's ongoing cybersecurity programs and initiatives and could be used to exploit vulnerabilities in the Federal Government's cyber network. Accordingly, the 3:45 p.m. and 5:10 p.m. portions of this meeting will be closed to the public pursuant to the authority set forth in 5 U.S.C. 552b(c)(2), (4) and (9)(B).

Dated: May 1, 2009.
James Madon,
Director, National Communications System.

[FR Doc. E9-10526 Filed 5-5-09; 8:45 am]

BILLING CODE 9110-9P-P